NUCLEAR REGULATORY COMMISSION

[NRC-2009-0110]

Final Interim Staff Guidance DC/COL-ISG-10: Review of Evaluation To Address Adverse Flow Effects in Equipment Other Than Reactor Internals

AGENCY: Nuclear Regulatory Commission.

ACTION: Interim staff guidance; withdrawal.

SUMMARY: The Nuclear Regulatory Commission (NRC) is withdrawing its Final Interim Staff Guidance (ISG) DC/COL-ISG-10, “Review of Evaluation to Address Adverse Flow Effects in Equipment Other than Reactor Internals.” This ISG served to supplement the guidance provided to the staff in Sections 3.9.2, “Dynamic Testing and Analysis of Systems, Structures, and Components,” and 3.9.5, “Reactor Pressure Vessel Internals,” of NUREG-0800, “Standard Review Plan for the Review of Safety Analysis Reports for Nuclear Power Plants: LWR Edition,” concerning the review of probabilistic risk assessment information and severe accident assessment submitted to support design certification (DC) and combined license (COL) applications. The NRC staff issues ISG to facilitate timely implementation of current staff guidance and to facilitate activities associated with review of applications for DC and COLs by the Office of New Reactors. The NRC staff incorporated the approved DC/COL-ISG into Revision 4 to Sections 3.9.2 and 3.9.5 of NUREG-0800 dated March 2017. With the issuance of Revision 4 to Sections 3.9.2 and 3.9.5 of NUREG-0800, the staff has determined that DC/COL-ISG-10 is no longer necessary and should be withdrawn.

DATES: The date of the withdrawal of Final Interim Staff Guidance DC/COL-ISG-10 is May 17, 2019.

ADDRESSES: Please refer to Docket ID NRC-2009-0110 when contacting the NRC about the availability of information regarding this document. You may obtain publicly-available information related to this document using any of the following methods:

• Federal Rulemaking Website: Go to http://www.regulations.gov and search for Docket ID NRC-2009-0110. Address questions about Docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

FOR FURTHER INFORMATION CONTACT: Mr. George Wunder, Office of the New Reactors, U.S. Nuclear Regulatory Commission, Washington, DC 20555-0001; telephone 301-415-1494 or email at George.Wunder@nrc.gov.

SUPPLEMENTARY INFORMATION: On November 3, 2009, as noticed in the Federal Register (74 FR 58323), the staff issued its Final Interim Staff Guidance, DC/COL-ISG-10, “Review of Evaluation to Address Adverse Flow Effects in Equipment Other than Reactor Internals” (ADAMS Accession No. ML092890285). This document is being withdrawn because on March 6, 2017, the staff issued Revision 4 to Sections 3.9.2 and 3.9.5 of NUREG-0800 (ADAMS Accession No. ML16133A418), incorporating the guidance of DC/COL-ISG-10 and, therefore, superseding it. Therefore, as of the date of this notice, DC/COL-ISG-10 is withdrawn.

Dated at Rockville, Maryland, this 14th day of May 2019.
For the Nuclear Regulatory Commission.
Jennivine K. Rankin,
Acting Chief, Licensing Branch 3, Division of Licensing, Siting, and Environmental Analysis, Office of New Reactors.

[FR Doc. 2019-10316 Filed 5-16-19; 8:45 am]

BILLING CODE 7590-01-P